DEPARTMENT OF THE INTERIOR

Fish and Wildlife Service

[FWS-R4-R-2012-N187; FXRS12650400000S3-123-FF04R02000]

Chassahowitzka National Wildlife Refuge, FL; Final Comprehensive Conservation Plan and Finding of No Significant Impact for the Environmental Assessment

AGENCY: Fish and Wildlife Service, Interior.

ACTION: Notice of availability.

SUMMARY: We, the Fish and Wildlife Service (Service), announce the availability of the final comprehensive conservation plan (CCP) and finding of no significant impact for the environmental assessment for Chassahowitzka National Wildlife Refuge (NWR) in Citrus and Hernando Counties, Florida. In the final CCP, we describe how we will manage this refuge for the next 15 years.

ADDRESSES: You may obtain a copy of the CCP by writing to: Mr. Michael Lusk via U.S. mail at Chassahowitzka National Wildlife Refuge, 1502 SE. Kings Bay Drive, Crystal River, FL 34429. Alternatively, you may download the document from our Internet Site, http://southeast.fws.gov/planning, under “Final Documents.”

FOR FURTHER INFORMATION CONTACT: Ms. Mary Morris, at 850-567-6202 (telephone), or crystalriverCCP@fws.gov (email).

SUPPLEMENTARY INFORMATION:

Introduction

With this notice, we finalize the CCP process for Chassahowitzka NWR. We started the process through a notice in the Federal Register on June 8, 2009 (74 FR 27173). For more about the refuge and our planning process, please see that notice.

Located about 60 miles north of Tampa, the 30,843-acre Chassahowitzka NWR was established for wintering waterfowl and other migratory birds. In 1976, Congress designated 23,579 acres of the refuge as “Wilderness.” Chassahowitzka NWR is managed as a part of the Crystal River National Wildlife Refuge Complex (Complex).

The refuge's diverse ecosystems, including prime estuarine habitat, hosts a myriad and abundance of flora and fauna. The marshlands, swamplands, shallow bays, and tidal streams provide the quantity and quality of aquatic plant and animal life required to support thousands of wintering waterfowl, marsh birds and waterbirds, shorebirds, fishes, and a variety of animal species that depend on a marine environment. The refuge also has 2,560 acres of hardwood swamplands and 250 acres of upland forest. Notable imperiled species include Florida manatees and an experimental population of whooping cranes introduced to the marsh habitats over a decade ago by means of a partnership.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft Comprehensive Conservation Plan and Environmental Assessment (Draft CCP/EA) available for a 30-day public review and comment period via a Federal Register notice on May 11, 2012 (77 FR 27792). We provided over 125 copies of the Draft CCP/EA to individuals or organizations requesting copies. A total of 22 individuals, organizations, and government agencies provided comments on the Draft CCP/EA by U.S. mail or email. Comments were received from many organizations, including Save the Manatee Club, Inc.; United Waterfowlers of Florida, Inc.; Citrus County Airboat Alliance; Southwest Florida Water Management District; Citrus County Planning; City of Crystal River; National Park Service, Planning and Compliance Division, Southeast Region; U.S. Geological Survey; Florida Fish and Wildlife Conservation Commission; Florida Department of State; and the Florida Clearinghouse.

CCP Alternatives, Including our Preferred Alternative

We developed three alternatives for managing the refuge (Alternatives A, B, and C), with Alternative C selected for implementation. This alternative relies on our extensive partnerships and promotes some new ones. We will hire a volunteer coordinator to recruit and train a volunteer corps for every program area. This alternative proposes additional staffing (a total of eight new positions for the Complex) to provide optimal resource protection and management capability. Research will include a broader suite of species, as well as habitat studies to adaptively manage for wildlife populations. The impacts of commercial and visitor use and external threats to the refuge will be studied and the results of those studies applied to refuge management and public use. Upland uses will be promoted though the development of improved facilities and access, and an observation platform and kayak landing will be added to the Dog Island facility.

The addition of key positions, such as a law enforcement officer, the volunteer coordinator, and the biological and computer-mapping technicians, will allow for greater resource study, mapping, data analysis, and enforcement. The hiring of a wildlife specialist and office assistant will support staff and provide a dedicated outreach coordinator. Refuge facilities will be improved for both visitor services and personnel. The existing house that serves as the Complex headquarters will be demolished, and a new headquarters and visitor contact station will be built. We will also construct a pole barn near the maintenance shop in which to store equipment, and will make improvements to the maintenance area and shop. All alternatives provide for “green” options, materials, and energy efficiency in the design and construction of new facilities and in equipment replacement.

Authority

This notice is published under the authority of the National Wildlife Refuge System Improvement Act of 1997 (16 U.S.C. 668dd et seq.).

Dated: August 17, 2012.
Mark J. Musaus,
Acting Regional Director.

[FR Doc. 2013-01171 Filed 1-18-13; 8:45 am]

BILLING CODE P